DEPARTMENT OF AGRICULTURE

Food and Nutrition Service

Agency Information Collection Activities: Summer Food Site Locations for State Agencies

AGENCY: Food and Nutrition Service (FNS), USDA.

ACTION: Notice.

SUMMARY: In accordance with the Paperwork Reduction Act of 1995, this notice invites the general public and other public agencies to comment on this proposed information collection. This is a revision of a currently approved collection for the voluntary collection of summer meal site information from State agencies.

DATES: Written comments must be received on or before September 19, 2022.

ADDRESSES: Comments may be sent to: Alice McKenney, Community Meals Branch, Food and Nutrition Service, U.S. Department of Agriculture, 1320 Braddock Place, Alexandria, VA 22314. Comments may also be submitted via email to SM.FN.CNDinternet@usda.gov. Comments will also be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Alice McKenney at 703-605-4150.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Summer Food Site Locations for State Agencies.

Form Number: FNS-905.

OMB Number: 0584-0649.

Expiration Date: 10/31/2022.

Type of Request: Revision of a currently approved collection.

Abstract: The Form FNS-905: Summer Food Site Locations for State Agencies is the instrument used to voluntarily collect information from State agencies about approved summer meal sites for the Summer Food Service Program (SFSP) and the Seamless Summer Option (SSO) of the National School Lunch Program. The form collects site name, location, and operating details, such as dates and times of the day that the sites are in operation, that provide summer meals to children 18 years and younger in low income communities during summer operations. The Form FNS-905 may only be completed by State agencies.

The Form FNS-905 is part of requirements found in statute in Section 26 of the National School Lunch Act (NSLA) (42 U.S.C. 1769g), which mandates that FNS enter into a contract with a nongovernmental organization to develop and maintain a national information clearinghouse for grassroots organizations working on hunger, food, nutrition, and other agricultural issues, including food recovery, food assistance and self-help activities to aid individuals to become self-reliant, and other activities that empower low-income individuals. The Form FNS-905 is specific to summer meal site data and populates the National Hunger Clearinghouse database with summer meals site information and locations. The USDA National Hunger Clearinghouse is a resource for the public to find information about the food safety net. Information collection activities associated with the USDA National Hunger Clearinghouse and its associated FNS-543 form, National Hunger Clearinghouse Database Form, are covered under OMB Control number 0584-0474, which is approved through April 30, 2025. This notice is only soliciting comments on the collection of summer meals site information from State agencies via the Form FNS-905 that is approved under this collection.

FNS also provides information about approved meal sites for individuals to find meals for children when school is out, and for groups that assist these low income individuals or communities to find meals for children in the summer. The information provides an innovative way to connect families to meals during summer operations, and assists communities in the development, coordination, and evaluation of strategic initiatives, partnership, and outreach activities.

A proposed change in the frequency of responses since the last submission is expected to increase the burden hours for this collection from 53 to 73 hours annually. In addition, FNS is removing $1,713 in capital, start-up, operational, and maintenance costs during this revision. While preparing this notice, FNS determined that the $1,713 costs were hourly respondent costs rather than capital, start-up, operational, or maintenance costs. While capital, start-up, operational, and maintenance costs are reported as part of the burden inventory for the collection, the hourly respondent costs are not reported in this manner. Therefore, FNS is removing these costs during this revision.

Affected Public: State, Local and Tribal Government: Respondent groups identified include State agencies administering the SFSP.

Estimated Number of Respondents: The total estimated number of respondents is 53. This includes: the 50 States, the District of Columbia, Virgin Islands and Puerto Rico State agencies which administer the SFSP.

Estimated Number of Responses per Respondent: Form FNS-905 is voluntary and State agencies are asked to complete the form at least once annually. However, State agencies may submit weekly updates during summer operations. Prior to the previous OMB approval, the average submission per State agency was 8. Since then, the average submission per State agencies has slightly increased. Data has shown that State agencies voluntarily submit an average of 11 revisions in the course of a year. Therefore, FNS is proposing to increase the number of responses per respondent from 8 responses to 11 responses in this request.

Estimated Total Annual Responses: 583.

Estimated Time per Response: The estimated time of response is approximately 7.5 minutes (0.125 hours) for each response.

Estimated Total Annual Burden on Respondents: 73 hours. See the table below for estimated total annual burden for the State agencies.

Respondent | Estimated number respondent | Responses annually per respondent | Total annual responses (col. bxc) | Estimated average number of hours per response | Estimated total hours (col. dxe)
Reporting Burden:
State agencies | 53 | 11 | 583 | 0.125 | 72.875
Total Reporting Burden | 53 |  | 583 |  | 72.875

Cynthia Long,
Administrator, Food and Nutrition Service.

[FR Doc. 2022-15579 Filed 7-20-22; 8:45 am]

BILLING CODE 3410-30-P